OFFICE OF PERSONNEL MANAGEMENT

Excepted Service

AGENCY: U.S. Office of Personnel Management (OPM).

ACTION: Notice.

SUMMARY: This notice identifies Schedule A, B, and C appointing authorities applicable to a single agency that were established or revoked from December 1, 2015, to December 31, 2015.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

03. Executive Office of the President (Sch. A 213.3103)

(b) Office of Management and Budget

(2) Not to Exceed 85 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

06. Department of Defense (Sch. A 213.3106)

(b) Entire Department (Including the Office of the Secretary of Defense and the Departments of the Army, Navy, and Air Force)

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command, Army Cyber Command, Fleet [Navy] Cyber Command, Air Force Cyber Command, and Marine Forces Cyber.

Schedule B

No Schedule B Authorities to report during December 2015.

Schedule C

The following Schedule C appointing authorities were approved during December 2015.

Agency name | Organization name | Position title | Authorization number | Effective date
DEPARTMENT OF AGRICULTURE | Office of Communications | Deputy Director of Scheduling | DA160014 | 12/1/2015
| Office of the Secretary | Confidential Assistant | DA160019 | 12/4/2015
| Rural Housing Service | State Director—California | DA160021 | 12/11/2015
| Office of the Assistant Secretary for Congressional Relations | Director, Intergovernmental Affairs | DA160026 | 12/22/2015
| Office of the General Counsel | Senior Counselor | DA160027 | 12/22/2015
| Rural Utilities Service | Senior Advisor | DA160028 | 12/22/2015
DEPARTMENT OF COMMERCE | Assistant Secretary for Industry and Analysis | Director, Office of Advisory Committees and Industry Outreach | DC160041 | 12/4/2015
| Office of the Chief Financial Officer and Assistant Secretary for Administration | Chief of Staff for Administration | DC160042 | 12/4/2015
| Office of the Under Secretary | Senior Advisor | DC160043 | 12/4/2015
DEPARTMENT OF DEFENSE | Office of the Secretary | Advance Officer | DD160022 | 12/9/2015
|  | Confidential Assistant | DD160026 | 12/14/2015
| Washington Headquarters Services | Defense Fellow | DD160024 | 12/9/2015
| Office of the Assistant Secretary of Defense (Legislative Affairs) | Special Assistant | DD160027 | 12/15/2015
| Office of the Under Secretary of Defense (Personnel and Readiness) | Special Assistant (Personnel and Readiness) | DD160031 | 12/28/2015
DEPARTMENT OF EDUCATION | Office of the Under Secretary | Chief of Staff, White House Initiative on Historically Black Colleges | DB160015 | 12/11/2015
| Office of Legislation and Congressional Affairs | Director of Budget and Appropriations | DB160014 | 12/14/2015
|  | Director of Outreach and Engagement | DB160018 | 12/22/2015
| Office of Career Technical and Adult Education | Confidential Assistant | DB160017 | 12/21/2015
| Office of Innovation and Improvement | Strategic Advisor | DB160019 | 12/22/2015
DEPARTMENT OF ENERGY | Office of the Assistant Secretary for Nuclear Energy | Associate Deputy Assistant Secretary for Policy and Small Modular Reactors Commercialization | DE160027 | 12/2/2015
| Office of the Secretary | White House Liaison | DE160043 | 12/10/2015
| Office of Scheduling and Advance | Senior Advisor for Strategic Planning | DE160039 | 12/14/2015
| Office of the Deputy Secretary | Special Advisor for Communications | DE160040 | 12/14/2015
| Office of the Assistant Secretary for Energy Efficiency and Renewable Energy | Senior Advisor for External Affairs | DE160045 | 12/18/2015
| Office of Assistant Secretary for Electricity Delivery and Energy Reliability | Special Advisor | DE160044 | 12/30/2015
GENERAL SERVICES ADMINISTRATION | Northeast and Caribbean Region | Special Assistant | GS160004 | 12/2/2015
DEPARTMENT OF HEALTH AND HUMAN SERVICES | Office of the Assistant Secretary for Public Affairs | Senior Communications Director | DH160034 | 12/18/2015
| Office of Intergovernmental and External Affairs | Special Assistant | DH160036 | 12/22/2015
DEPARTMENT OF HOMELAND SECURITY | Office of Assistant Secretary for Legislative Affairs | Legislative Affairs Specialist | DM160035 | 12/3/2015
| Office of the Under Secretary for National Protection and Programs Directorate | Advisor for Counterterrorism and Intelligence | DM160062 | 12/8/2015
|  | Special Advisor | DM160071 | 12/10/2015
| United States Immigration and Customs Enforcement | Special Assistant | DM160070 | 12/9/2015
| Office of the Secretary | Counselor | DM160036 | 12/10/2015
| Office of the Assistant Secretary for Intergovernmental Affairs | Intergovernmental Affairs Coordinator | DM160076 | 12/15/2015
DEPARTMENT OF HOUSING AND URBAN DEVELOPMENT | Office of the Administration | Director of Scheduling | DU160003 | 12/2/2015
DEPARTMENT OF THE INTERIOR | Office of Assistant Secretary—Indian Affairs | Advisor | DI160013 | 12/14/2015
| Secretary's Immediate Office | Special Assistant | DI160018 | 12/18/2015
|  | Advisor for Strategic Partnerships and Diversity Engagement | DI160020 | 12/18/2015
| National Park Service | Centennial Program Manager | DI160023 | 12/22/2015
|  | Advisor | DI160024 | 12/22/2015
DEPARTMENT OF JUSTICE | Office of the Attorney General | White House Liaison | DJ160026 | 12/4/2015
| Office of Justice Programs | Senior Policy Advisor | DJ160033 | 12/23/2015
DEPARTMENT OF LABOR | Office of Congressional and Intergovernmental Affairs | Chief of Staff | DL160020 | 12/16/2015
|  | Senior Counselor | DL160019 | 12/18/2015
| Office of the Assistant Secretary for Policy | Associate Assistant Secretary | DL160024 | 12/28/2015
NATIONAL AERONAUTICS AND SPACE ADMINISTRATION | Office of Legislative and Intergovernmental Affairs | Legislative Affairs Specialist | NN160006 | 12/10/2015
OFFICE OF MANAGEMENT AND BUDGET | Office of the Director | Confidential Assistant (2) | BO160008 | 12/9/2015
|  |  | BO160009 | 12/9/2015
OFFICE OF PERSONNEL MANAGEMENT | Office of Chief Information Officer | Special Assistant | PM160004 | 12/9/2015
| Office of Communications | Public Affairs Specialist | PM160009 | 12/9/2015
| Office of the Director | Executive Assistant | PM160010 | 12/18/2015
|  | Special Assistant | PM160011 | 12/18/2015
|  | Deputy Chief of Staff | PM160013 | 12/22/2015
SELECTIVE SERVICE SYSTEM | Office of the Director | Chief of Staff | SS160001 | 12/16/2015
DEPARTMENT OF STATE | Office of the Secretary | Staff Assistant | DS160013 | 12/1/2015
| Bureau of African Affairs | Senior Advisor | DS160014 | 12/1/2015
| Bureau of Energy Resources | Deputy Assistant Secretary | DS160016 | 12/4/2015
| Foreign Policy Planning Staff | Staff Assistant | DS160019 | 12/15/2015
|  | Foreign Affairs Officer | DS160020 | 12/16/2015
| Office of the United States Aids Coordinator | Director of Public Affairs and Communications | DS160022 | 12/31/2015
DEPARTMENT OF TRANSPORTATION | Office of Assistant Secretary for Transportation Policy | Deputy Assistant Secretary for Transportation Policy | DT160014 | 12/11/2015
| Office of General Counsel | Associate General Counsel | DT160017 | 12/17/2015
| Office of Assistant Secretary for Governmental Affairs | Director of Governmental Affairs, Budget and Programs | DT160018 | 12/21/2015
DEPARTMENT OF THE TREASURY | Office of Under Secretary for Domestic Finance | Policy Advisor | DY160016 | 12/10/2015
| Office of Under Secretary for Domestic Finance | Special Advisor | DY160019 | 12/18/2015
| Office of Assistant Secretary (Public Affairs) | Senior Advisor | DY160017 | 12/10/2015
| Office of Assistant Secretary for Management | Special Assistant | DY160018 | 12/10/2015
DEPARTMENT OF VETERANS AFFAIRS | Office of the Secretary and Deputy | Senior Advisor for Management Initiatives and White House Liaison | DV160015 | 12/22/2015

The following Schedule C appointing authorities were revoked during December 2015.

Agency name | Organization name | Position title | Authorization number | Vacate date
DEPARTMENT OF COMMERCE | Office of Assistant Secretary for Industry and Analysis | Deputy Director, Office of Advisory Committees, Industry and Analysis | DC150112 | 12/12/2015
| Office of the Chief Financial Officer and Assistant Secretary for Administration | Chief of Staff to the Chief Financial Officer and Assistant Secretary for Administration | DC150097 | 12/12/2015
| Office of the Under Secretary | Deputy Chief of Staff for the United States Patent and Trademark Office | DC140013 | 12/12/2015
COMMODITY FUTURES TRADING COMMISSION | Office of the Chairperson | Attorney Advisor (General) | CT140003 | 12/12/2015
DEPARTMENT OF EDUCATION | Office of the Secretary | Director of Scheduling and Advance | DB150100 | 12/09/2015
| Office of the Deputy Secretary | Special Assistant | DB140080 | 12/12/2015
DEPARTMENT OF ENERGY | Office of Assistant Secretary for Fossil Energy | Chief of Staff | DE150087 | 12/04/2015
DEPARTMENT OF HOMELAND SECURITY | Office of Assistant Secretary for Legislative Affairs | Legislative Affairs Specialist | DM110173 | 12/12/2015
| Office of the Assistant Secretary for Policy | Policy Advisor | DM150040 | 12/12/2015
| Office of the Under Secretary for National Protection and Programs Directorate | Program Analyst | DM100071 | 12/18/2015
| Federal Emergency Management Agency | Counselor to the Administrator | DM140147 | 12/26/2015
| Office of the Assistant Secretary for Intergovernmental Affairs | Intergovernmental Affairs Coordinator | DM140228 | 12/26/2015
| United States Citizenship and Immigration Services | Counselor to the Director | DM140185 | 12/26/2015
| United States Customs and Border Protection | Senior Advisor for Strategic Communications | DM120145 | 12/26/2015
| United States Immigration and Customs Enforcement | Director of Communications | DM140181 | 12/26/2015
DEPARTMENT OF HOUSING AND URBAN DEVELOPMENT | Office of Congressional and Intergovernmental Relations | Associate Director of Intergovernmental Relations | DU130049 | 12/11/2015
| Office of the Chief Human Capital Officer | Director of Scheduling | DU140043 | 12/11/2015
| Office of the Administration | Advance Coordinator | DU140047 | 12/12/2015
DEPARTMENT OF JUSTICE | Civil Rights Division | Senior Counsel | DJ140089 | 12/12/2015
OFFICE OF PERSONNEL MANAGEMENT | Office of Communications | Social Media Director | PM140012 | 12/11/2015
DEPARTMENT OF STATE | Bureau for Education and Cultural Affairs | Special Assistant | DS120121 | 12/12/2015
DEPARTMENT OF TRANSPORTATION | Office of Assistant Secretary for Transportation Policy | Senior Policy Advisor | DT140015 | 12/26/2015
| Office of the Secretary | Special Assistant | DT150046 | 12/26/2015
DEPARTMENT OF THE TREASURY | Office of the Secretary | Senior Advisor | DY150112 | 12/12/2015

Authority: 5 U.S.C. 3301 and 3302; E.O. 10577, 3 CFR, 1954-1958 Comp., p. 218.

U.S. Office of Personnel Management.
Beth F. Cobert,
Acting Director.

[FR Doc. 2016-08080 Filed 4-7-16; 8:45 am]

BILLING CODE 6325-39-P